DEPARTMENT OF DEFENSE

Department of the Air Force

[Docket ID USAF-2012-0026]

Proposed Collection; Comment Request

AGENCY: Department of Defense/Department of the Air Force/Headquarters, Air Force Reserve Officer Training Corps (AFROTC).

ACTION: Notice.

In compliance with Section 3506(c)(2)(A) of the Paperwork Reduction Act of 1995, the Department of the Air Force announces a reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 28, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: The AFROTC Scholarship Program, ATTN: Mr. Jack Sanders, 551 E. Maxwell Blvd., Maxwell AFB AL 36112 or 334-953-2869.

Title; Associated Form; and OMB Number: AFROTC Scholarship Program On-line Application, OMB Number 0701-0101.

Needs and Uses: The AFROTC scholarship application is required for completion by high school seniors and recent graduates for the purpose of competing for an AFROTC 4 year scholarship. Respondents must complete and submit their application via the AFROTC.com web site. Submitted data will be evaluated by AFROTC scholarship selections boards to determine eligibility and to select individuals for the award of a college scholarship.

Affected Public: High school seniors and recent graduates who apply for an AFROTC scholarship.

Annual Burden Hours: 7,500

Number of Respondents: 15,000

Responses per Respondent: 1

Average Burden per Response: 30 minutes

Frequency: Annually

SUPPLEMENTARY INFORMATION:

Summary of Information Collection

The following is required to be provided by the applicant and maintained by AFROTC. Names, addresses, social security numbers, telephone numbers, transcripts, and resumes.

The following documentation is provided as part of the application:

1. Counselor Certification/Signed copy of Transcript (9th-11th grades only)

2. Extracurricular Activity Sheet

3. GPA and SAT and/or ACT scores

4. Physical Fitness Assessment

5. Résumé

Dated: November 26, 2012.
Aaron Siegel,
Alternate OSD Federal Register Liaison Officer, Department of Defense.

[FR Doc. 2012-28877 Filed 11-28-12; 8:45 am]

BILLING CODE 5001-06-P